SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Advanced Notice of Termination of Child's Benefits & Student's Statement Regarding School Attendance—20 CFR 404.350-404.352, 404.367-404.368—0960-0105. The information collected on Forms SSA-1372-BK and SSA-1372-BK-FC is needed to determine whether children of an insured worker are eligible for student benefits. The data allows SSA to determine student entitlement and whether entitlement will end. The respondents are student claimants for Social Security benefits, their respective schools and, in some cases, their representative payees.

Type of Request: Extension of an OMB-approved information collection.

SSA-1372-BK
Type of respondent | Number of respondents | Frequency of response | Average burden per response (minutes) | Total annual burden (hours)
Individuals/Households | 99,850 | 1 | 11 | 18,306
State/Local/Tribal Government | 99,850 | 1 | 11 | 18,306
Totals | 199,700 |  |  | 36,612

SSA-1372-BK-FC
Type of respondent | Number of respondents | Frequency of response | Average burden per response (minutes) | Total annual burden (hours)
Individuals/Households | 150 | 1 | 11 | 28
State/Local/Tribal Government | 150 | 1 | 11 | 28
Totals | 300 |  |  | 56

2. Acknowledgement of Receipt (Notice of Hearing)—20 CFR 404.938 & 416.1438—0960-0671. The HA-504 is used to acknowledge receipt of the notice of hearing issued by an Administrative Law Judge. The ALJ uses the information collected on Form HA-504 to: (1) Prepare for the hearing as scheduled; or (2) reschedule the hearing to a different date and/or location. The respondents are applicants for Social Security benefits who request a hearing to appeal an unfavorable entitlement or eligibility determination.

Type of Request: Extension of an OMB-approved information collection.

Number of Respondents: 660,000.

Frequency of Response: 1.

Average Burden Per Response: 1 minute.

Estimated Annual Burden: 11,000 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Request for Corrections of Earnings Record—20 CFR 404.820 & 20 CFR 422.125—0960-0029. The information collected by From SSA-7008 is needed when an individual alleges his/her earnings record is inaccurate. The information is used to check against the record maintained by SSA and, as necessary, initiate development to resolve the issue. The respondents are individuals who request correction of earnings posted to their Social Security earnings record.

Type of Request: Extension of an OMB-approved information collection.

| Number of respondents | Frequency of response | Estimated burden per response (minutes) | Estimated annual burden (hours)
Paper Version | 37,500 | 1 | 10 | 6,250
In-person or telephone interview | 337,500 | 1 | 10 | 56,250
Total | 375,000 |  |  | 62,500

2. Statement of Agricultural Employer (Year Prior to 1988; and 1988 and later)—20 CFR 404.702, 404.802, 404.1056—0960-0036. The information from forms SSA-1002-F3 and SSA-1003-F3 is used by SSA to resolve discrepancies when farm workers allege their employers did not report their wages, or reported the wages incorrectly. If an agricultural employer has incorrectly reported wages, or failed to report any wages for an employee, SSA must attempt to correct its records by contacting the employer to obtain convincing evidence of the wages paid. The respondents are agricultural employers having knowledge of wages paid to agricultural employees.

Type of Request: Extension of an OMB-approved information collection.

Form number | Number of respondents | Frequency of response | Average burden per response (minutes) | Total annual burden (hours)
SSA-1002 | 75,000 | 1 | 30 | 37,500
SSA-1003 | 50,000 | 1 | 30 | 25,000
Total | 125,000 |  |  | 62,500

3. Medical Report (General)—20 CFR 404.1512-404.1515, 416.912-416.915—0960-0052. SSA, through its agents, the Disability Determination Services (DDSs), uses form SSA-3826-F4 to make determinations in disability claims cases. The information collected on the SSA-3826-F4 is used in determining the claimant's physical and mental status prior to making a disability determination, and to document the disability claims folder with the medical evidence. Thus, it provides disability adjudicators and reviewers with a narrative record and history of the alleged disability and with the objective medical findings necessary to make a disability determination. SSA uses the medical evidence provided on this form in making a determination of whether an individual's impairment meets the severity and duration requirements for disability benefits. The respondents are members of the medical community including individual and hospital physicians, medical records librarians, and other medical sources.

Type of Request: Revision of an OMB-approved information collection.

Number of Respondents: 150,000.

Frequency of Response: 1.

Average Burden per Response: 30 minutes.

Estimated Annual Burden: 75,000 hours.

4. Travel Expense Reimbursement—20 CFR 404.999(d) and 416.1499—0960-0434. The Social Security Act provides for travel expense reimbursement by the State agency or Federal agency for claimant travel incidental to medical examinations and to parties, their representatives, and all reasonably necessary witnesses for travel exceeding 75 miles to attend medical examinations, reconsideration interviews and proceedings before an administrative law judge. Reimbursement procedures require the claimant to provide (1) a list of expenses incurred, and (2) receipts of such expenses. State and Federal personnel review the listings and receipts to verify the amount to be reimbursed to the requestor. The respondents are claimants for Title II benefits and Title XVI payments, their representatives and witnesses.

Type of Request: Extension of an OMB-approved information collection.

Number of Respondents: 50,000.

Frequency of Response: 1.

Average Burden per Response: 10 minutes.

Estimated Annual Burden: 8,333 hours.

5. Disability Hearing Officer's Report of Disability Hearing—20 CFR 404.917, 416.1407, 416.1417—0960-0440. Form SSA-1205-BK is used by the Disability Hearing Officer conducting the disability interview in preparation for a written reconsidered determination—specifically for evaluating Title II and Title XVI adult disability claims. The form provides the framework for addressing crucial elements in the case and is used in formulating the completed official documentation of the decision. Respondents are Disability Hearing Officers.

Type of Request: Extension of an OMB-approved information collection.

Number of Respondents: 35,600.

Frequency of Response: 1.

Average Burden per Response: 60 minutes.

Estimated Annual Burden: 35,600 hours.

6. Beneficiary Recontact Report— 20 CFR 404.703 and 404.705—0960-0536. SSA needs to ensure that eligibility for benefits continues after entitlement is established. Studies show that payees of childern who marry fail to report the marriage, which is a terminating event. SSA asks childern ages 15, 16, and 17 information about marital status to detect overpayments and avoid continuing payment to those no longer entitled. Form SSA-1587-OCR-SM is used to obtain information regarding marital status from those children who have representative payees. Respondents are recipients of survivor Social Security benefits who have representative payees.

Type of Request: Revision of an OMB-approved information collection.

Number of Respondents: 982,357.

Frequency of Response: 1.

Average Burden Per Response: 3 minutes.

Estimated Annual Burden: 49,118 hours.

7. Certificate of Coverage Request—20 CFR 404.1913—0960-0554. The United States has Social Security agreements with 21 countries. These agreements eliminate double Social Security coverage and taxation where, except for the provisions of the agreement, a period of work would be subject to coverage and taxes in both countries. The individual agreements contain rules for determining the country under whose laws the period of work will be covered and to whose system taxes will be paid. The agreements further provide that, upon the request of the worker or employer, the country under whose system the period of work is covered will issue a certificate of coverage. The certificate serves as proof of exemption from coverage and taxation under the system of the other country. The information collected is needed to determine if a period of work is covered by the U.S. Social Security system under an agreement and to issue a U.S. certificate of coverage. Respondents are workers and employers wishing to establish exemption from foreign social security taxes.

Type of Request: Extension of an OMB-approved information collection.

Type of respondent | Number of respondents | Frequency of response | Average burden per response (minutes) | Total annual burden (hours)
Individuals | 30,000 | 1 | 30 | 15,000
Private Sector | 20,000 | 1 | 30 | 10,000
Totals | 50,000 |  |  | 25,000

8. Incorporation by Reference of Oral Findings of Fact and Rationale in Wholly Favorable Written Decisions (Bench Decision Regulation)—20 CFR 404.953 and 416.1453—0960-0694. Sections 20 CFR 404.953 and 416.1453 of our regulations state that if an administrative law judge makes a wholly favorable oral decision for a claimant of Title II or Title XVI payments at an administrative appeals hearing, and if this oral decision includes all findings and the rationale for the decision, the records from the oral hearing preclude the need for a written decision. This is known as the incorporation-by-reference process. These regulations also state that if the involved parties want a record of the oral decision, they may submit a written request for these records.

Type of Request: Extension of an OMB-approved information collection.

Number of Respondents: 2,500.

Frequency of Response: 1.

Average Burden Per Response: 5 minutes.

Estimated Annual Burden: 208 hours.

9. Request for Proof(s) from Custodian of Records—20 CFR 404.703, 404.704, 404.720, 404.721, 404.723, 404.725, & 404.728—0960-NEW. SSA prepares the SSA-L707 for individuals who need help in obtaining evidence of death, marriage, or divorce in connection with claims for benefits. The information collected on the SSA-L707 is used to request and receive the needed evidence. The respondents are custodians of records including statistics and religious entities, coroners, funeral directors, attending physicians, state agencies.

Type of Request: Existing Information Collection in Use Without an OMB Number.

Number of Respondents: 600.

Frequency of Response: 1.

Average Burden Per Response: 10 minutes.

Estimated Annual Burden: 100 hours.

10. Protection and Advocacy for Beneficiaries of Social Security (PABSS)-Program Performance Report-0960-NEW.

Background

In August of 2004, SSA announced its intention to award grants to establish community-based protection and advocacy projects in every State and U.S. Territory, as authorized under section 1150 of the Social Security Act. Potential awardees were protection and advocacy organizations established under Title I of the Developmental Disabilities Assistance and Bill of Rights Act which submitted a timely application conforming to the requirements in the notice. The projects funded under this grant are part of SSA's strategy to increase the number of beneficiaries who return to work and achieve self-sufficiency as the result of receiving advocacy or other services. The overall goal of the program is to provide information and advice about obtaining vocational rehabilitation and employment services and to provide advocacy or other services that a beneficiary with a disability may need to secure, maintain, or regain gainful employment.

Collection Activity

The PABSS Program Performance Report collects statistical information from the various Protection and Advocacy (P&A) projects to manage program performance. SSA uses the information to evaluate the efficacy of the program and to ensure that those dollars appropriated for PABSS services are being spent on SSA beneficiaries. The project data will be valuable to SSA in its analysis of and future planning for the Social Security Disability Insurance (SSDI) and SSI programs. The respondents to this collection are the 57 designated P&A project system sites in each of the fifty States, the District of Columbia, and the U.S. Territories and beneficiaries of SSDI and SSI programs.

Please note that we have included in this notice the reporting burden for beneficiary participants that was not included in the initial notice published on July 31, 2006 at 71 FR 43270.

Type of Request: Collection in Use Without an OMB Number.

—
Type of respondent | Number of respondents | Frequency of response | Number of annual responses | Average burden per response (minutes) | Estimated annual burden (hours)
PABSS Program Grantees | 57 | 2 | 114 | 60 | 114
Beneficiaries | 5,000 | 1 | 5,000 | 15 | 1,250
Totals | 5,057 |  | 5,114 |  | 1,364

Dated: October 12, 2007.
Elizabeth A. Davidson,
Reports Clearance Officer, Social Security Administration.

[FR Doc. E7-20557 Filed 10-17-07; 8:45 am]

BILLING CODE 4191-02-P